FEDERAL RETIREMENT THRIFT INVESTMENT BOARD

Sunshine Act; Notice of Meeting

TIME AND DATE: 9 a.m. (Eastern Time), January 23, 2012.

PLACE: 4th Floor Conference Room, 1250 H Street NW., Washington, DC 20005.

STATUS: Parts will be open to the public and parts will be closed to the public.

Matters To Be Considered

Parts Open to the Public

1. Approval of the minutes of the December 19, 2011 Board Member Meeting

2. Thrift Savings Plan Activity Report by the Executive Director

a. Monthly Participant Activity Report

b. Legislative Report

3. Quarterly Reports

a. Investment Policy Review

b. Vendor Financial Status Report

4. Annual Administrative Expenses Report

5. Audit Process Report

Parts Closed to the Public

6. Security

7. Procurement

Contact Person for More Information

Thomas J. Trabucco, Director, Office of External Affairs, (202) 942-1640.

Dated: January 17, 2012.
Thomas K. Emswiler,
Secretary, Federal Retirement Thrift Investment Board.

[FR Doc. 2012-1146 Filed 1-17-12; 4:15 pm]

BILLING CODE 6760-01-P